DEPARTMENT OF THE INTERIOR

Office of the Secretary

[RR04073000/XXXR4081X3/RX.05940913.7000000]

Notice To Reopen the Glen Canyon Dam Adaptive Management Work Group Call for Nominations

AGENCY: Office of the Secretary, Interior.

ACTION: Notice to reopen a call for nominations.

SUMMARY: A request for nominations was published by the Department of the Interior in the Federal Register on June 6, 2018, for specific positions on the Glen Canyon Dam Adaptive Management Work Group (AMWG) Federal advisory committee. The nomination period ended on July 6, 2018. This notice reopens the nomination period for another 30 days.

DATES: The nomination period for the notice published on June 6, 2018, at 83 FR 26304, is reopened. Nominations for the vacant positions are due August 20, 2018.

ADDRESSES: Send nomination packages to Brent Rhees, Regional Director, U.S. Bureau of Reclamation, 125 S State Street, Room 8100, Salt Lake City, UT 84138, or via email to brhees@usbr.gov.

FOR FURTHER INFORMATION CONTACT: Katrina Grantz, Chief, Adaptive Management Work Group, Environmental Resources Division, at (801) 524-3635, fax: 801-524-5499, or by email at kgrantz@usbr.gov.

SUPPLEMENTARY INFORMATION: Nomination Process: Nominations should include a resume that provides an adequate description of the nominee's qualifications, particularly information that will enable the Department of the Interior to evaluate the nominee's potential to meet the membership requirements of the AMWG and permit the Department of the Interior to contact a potential member. The Membership Criteria section in the notice published on June 6, 2018 (83 FR 26304) provides specific information to be included in nomination packages.

Dated: July 13, 2018.
Ryan K. Zinke,
Secretary.

[FR Doc. 2018-15595 Filed 7-19-18; 8:45 am]

BILLING CODE 4332-90-P